ENVIRONMENTAL PROTECTION AGENCY

[EPA-HQ-OPP-2007-0409; FRL-8145-5]

The Association of American Pesticide Control Officials (AAPCO)/State FIFRA Issues Research and Evaluation Group (SFIREG) Working Committee on Pesticide Operations and Management (WC/POM); Notice of Public Meeting

AGENCY: Environmental Protection Agency (EPA).

ACTION: Notice.

SUMMARY: The Association of American Pesticide Control Officials (AAPCO)/State FIFRA Issues Research and Evaluation Group (SFIREG) Working Committee on Pesticide Operations & Management (WC/POM) will hold a 2-day meeting, beginning on October 1, 2007 and ending October 2, 2007. This notice announces the location and times for the meeting and sets forth the tentative agenda topics.

DATES: The meeting will be held on October 1, 2007 from 8:30a.m. to 5 p.m. and 8:30 a.m. to 12 noon on October 2, 2007.

To request accommodation of a disability, please contact the person listed under FOR FURTHER INFORMATION CONTACT, preferably at least 10 days prior to the meeting, to give EPA as much time as possible to process your request.

ADDRESSES: The meeting will be held at EPA, 2777 Crystal Dr., (One Potomac Yard South), 4th Floor South Conference Center, Arlington, VA 22202.

FOR FURTHER INFORMATION CONTACT: Georgia McDuffie, Field and External Affairs Division, (7506P), Office of Pesticide Programs, Environmental Protection Agency, 1200 Pennsylvania Ave., NW., Washington, DC 20460-0001; telephone number: (703) 605-0195; fax number: (703) 308-1850; e-mail address: mcduffie.georgia @epa.gov or Grier Stayton, Executive Secretary, P.O. Box 466 Milford, DE 19963; telephone number: (302) 422-8152; fax: (302) 422-2435; email: “grier stayton” <aapco-sfireg@comcast.net>.

SUPPLEMENTARY INFORMATION:

I. General Information

A. Does this Action Apply to Me?

You may be potentially affected by this action if you are interested in SFIREG information exchange relationship with EPA regarding important issues related to human health, environmental exposure to pesticides, and insight into EPA's decision-making process are invited and encouraged to attend the meetings and participate as appropriate. ” Potentially affected entities may include, but are not limited to: those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under docket identification (ID) number EPA-HQ-OPP-2007-0409. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Facility Docket telephone number is (703) 305-5805.

2. Electronic access. You may access this Federal Register document electronically through the EPA Internet under the “Federal Register” listings at http://www.epa.gov/fedrgstr.

II. Tentative Agenda:

1. Update from POM E-label Task Force

2. Discussion on Problem Labels and EPA's Label Accountability Workgroup

3. Merits of translating the National Pesticide Applicator Certification Core Manual into Spanish

4. Requiring an Expiration Date on Chlorine Products and Antimicrobials

5. Concerns with Embossed Pesticide Labeling

6. Labeling Concerns with Mosquito Management Products

7. EPA's Pilot to Evaluate Drift Reduction Technology: Opportunities for State Input

8. POM Working Committee Workgroups Issue Papers/Updates

9. EPA Update/Briefing

a. Office of Pesticide Programs Update

b. Office of Enforcement Compliance Assurance Update

List of Subjects

Environmental protection.

Dated: August 24, 2007.
William R. Diamond,
Director, Field External Affairs Division, Office of Pesticide Programs

[FR Doc. E7-19640 Filed 10-3-07; 8:45 am]

BILLING CODE 6560-50-S